DEPARTMENT OF COMMERCE

Foreign-Trade Zones Board

[B-84-2016]

Foreign-Trade Zone (FTZ) 21—Dorchester County, South Carolina; Authorization of Production Activity; AGRU America Charleston, LLC (Industrial Pipes); North Charleston, South Carolina

On December 9, 2016, the South Carolina State Ports Authority, grantee of FTZ 21, submitted a notification of proposed production activity to the FTZ Board on behalf of AGRU America Charleston, LLC, within Site 5, in North Charleston, South Carolina.

The notification was processed in accordance with the regulations of the FTZ Board (15 CFR part 400), including notice in the Federal Register inviting public comment (81 FR 91115, December 16, 2016). The FTZ Board has determined that no further review of the activity is warranted at this time. The production activity described in the notification is authorized, subject to the FTZ Act and the FTZ Board's regulations, including Section 400.14.

Dated: April 10, 2017.
Andrew McGilvray,
Executive Secretary.

[FR Doc. 2017-07490 Filed 4-12-17; 8:45 am]

BILLING CODE 3510-DS-P